ENVIRONMENTAL PROTECTION AGENCY

[EPA-HQ-OPPT-2020-0135; FRL-10006-50]

TSCA Science Advisory Committee on Chemicals; Request for Nominations

AGENCY: Environmental Protection Agency (EPA).

ACTION: Notice.

SUMMARY: The Environmental Protection Agency (EPA) invites the public to nominate scientific experts from a diverse range of disciplines to be considered for appointment to the Toxic Substances Control Act (TSCA), Science Advisory Committee on Chemicals (SACC). The purpose of the SACC is to provide independent advice and expert consultation, at the request of the EPA Administrator, with respect to the scientific and technical aspects of issues relating to implementation of TSCA. EPA anticipates appointing multiple SACC members over the next year. Sources in addition to this Federal Register Notice may be utilized to solicit nominations and identify candidates.

DATES: Nominations of candidates to be considered for appointment to the SACC must be received on or before April 20, 2020.

ADDRESSES: Submit your nominations, identified by docket identification (ID) number EPA-HQ-OPPT-2020-0135, by one of the following methods:

• Electronically (preferred): By email to knott.steven@epa.gov.

• Mail: Steven M. Knott, MS, Designated Federal Officer (DFO), Office of Science Coordination and Policy (7201M), Environmental Protection Agency, 1200 Pennsylvania Avenue NW, Washington, DC 20460.

FOR FURTHER INFORMATION CONTACT: Steven M. Knott, MS, DFO, telephone number: (202) 564-0103; email address: knott.steven@epa.gov.

SUPPLEMENTARY INFORMATION:

I. General Information

A. Does this action apply to me?

This action is directed to the public in general. This action may, however, be of interest to those involved in the manufacture, processing, distribution, disposal of chemical substances and mixtures, and/or those interested in the assessment of risks involving chemical substances and mixtures. Since other entities may also be interested, the Agency has not attempted to describe all the specific entities that may be affected by this action. If you have questions regarding the applicability of this action to a particular entity, consult the DFO listed under FOR FURTHER INFORMATION CONTACT.

B. How can I get copies of this document and other related information?

The docket for this action, identified by docket identification (ID) number EPA-HQ-OPPT-2020-0135, is available at http://www.regulations.gov or at the Office of Pollution Prevention and Toxics Regulatory Public Docket (OPPT Docket) in the Environmental Protection Agency Docket Center (EPA/DC), West William Jefferson Clinton Building, Room 3334, 1301 Constitution Avenue NW, Washington, DC 20460-0001. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. Background

The SACC is a federal advisory committee, established in December 2016 pursuant to TSCA section 2625(o), and chartered under the Federal Advisory Committee Act (FACA), 5 U.S.C. Appendix 2. EPA established the SACC to provide independent advice and recommendations to the EPA Administrator on the scientific basis for risk assessments, methodologies, and approaches relating to implementation of TSCA. The SACC members serve as Special Government Employees (SGEs) or Regular Government Employees (RGEs). The SACC expects to meet approximately 4 to 6 times per year, or as needed and approved by the DFO. Meetings will be held in the Washington, DC, metropolitan area.

In January 2017, the EPA Administrator appointed 18 members to the SACC. After further consideration of the objectives and scope of SACC activities, EPA decided to increase the membership of the SACC, and in March 2018, completed additional appointments resulting in a total of 26 members. Subsequently, some SACC members either resigned or declined to serve extended appointments. Currently, there are 19 SACC members, all with membership terms that will expire over the next year.

To date, SACC members and ad hoc reviewers have provided their expertise and knowledge on the first draft chemical risk evaluations. These individuals have dedicated an incredible amount of time to provide EPA with thoughtful and important recommendations for improving the risk evaluations. At times, SACC members were working on multiple chemical evaluations while also preparing for and participating in peer review meetings and writing reports. EPA greatly appreciates the dedication and commitment to service of the SACC members.

Given the foundation provided by the SACC recommendations from these first reviews, EPA is exploring different ways to use the SACC's expertise for providing independent advice and expert consultation after the peer reviews of the first 10 chemical risk evaluations are completed. The Agency is considering requesting that the SACC review significant, cross-cutting science issues on exposure, risk, and modeling, similar to how the Agency uses the Federal Insecticide, Fungicide, and Rodenticide Act (FIFRA), Scientific Advisory Panel (SAP) for health and safety issues related to pesticides. Therefore, EPA may not ask the SACC to peer review every single draft risk evaluation for the next 20 high priority chemicals. With this prospective change in the scope of SACC activities, EPA anticipates appointing approximately 15 members to the SACC by March 2021.

III. Nominations

EPA values and welcomes diversity and encourages nominations of women and men of all racial and ethnic groups. Any interested person or organization may nominate qualified persons to be considered for appointment to this advisory committee. Individuals also may self-nominate. Nominations may be submitted in electronic format (preferred) or mailed in accordance with the instructions under ADDRESSES.

Nominations should include candidates who have demonstrated high levels of competence, knowledge, and expertise in scientific/technical fields relevant to chemical safety and risk assessment. In particular, the nominees should include representation of the following disciplines, including, but not limited to: Human health and ecological risk assessment, biostatistics, epidemiology, pediatrics, physiologically-based pharmacokinetics (PBPK), toxicology and pathology (including neurotoxicology, developmental/reproductive toxicology, and carcinogenesis), and the relationship of chemical exposures to women, children, and other potentially exposed or susceptible subpopulations.

To be considered, all nominations should include the following information: Current contact information for the nominee (including the nominee's name, organization, current business address, email address, and daytime telephone number); the disciplinary and specific areas of expertise of the nominee; the nominee's curriculum vitae; and a biographical sketch of the nominee indicating current position, educational background, research activities, and recent service on other federal advisory committees and national or international professional organizations. Persons having questions about the nomination process should contact the DFO listed under FOR FURTHER INFORMATION CONTACT.

The DFO will acknowledge receipt of nominations. Sources in addition to respondents to this Federal Register Notice may be utilized to solicit nominations and identify candidates. The names and biographical sketches of all interested and available candidates will be posted in a List of Candidates in the docket at http://www.regulations.gov and on the SACC website at http://www.epa.gov/tsca-peer-review. The availability of the list also will be announced through the Office of Chemical Safety and Pollution Prevention (OCSPP)'s listservs. You may subscribe to these listservs at the following website: https://public.govdelivery.com/accounts/USAEPAOPPT/subscriber/new?topic_id=USAEPAOPPT_101. Public comments on the List of Candidates will be accepted for 21 days from the date the list is posted. The public will be requested to provide relevant information or other documentation on nominees that the EPA should consider in evaluating candidates.

IV. Selection Criteria

In addition to scientific expertise, in selecting members, EPA will consider the differing perspectives and the breadth of collective experience needed to address EPA's charge to the SACC, as well as the following:

• Background and experiences that would contribute to the diversity of scientific viewpoints on the committee, including professional experiences in government, labor, public health, public interest, animal protection, industry, and other groups, as the EPA Administrator determines to be advisable (e.g., geographical location; social and cultural backgrounds; and professional affiliations);

• Skills and experience working on committees and advisory panels including demonstrated ability to work constructively and effectively in a committee setting;

• Absence of financial conflicts of interest or the appearance of a loss of impartiality;

• Willingness to commit adequate time for the thorough review of materials provided to the committee; and

• Availability to participate in committee meetings.

(Authority: 15 U.S.C. 2625 et seq.; 5 U.S.C. Appendix 2 et seq.)

Dated: March 13, 2020.
Hayley Hughes,
Director, Office of Science Coordination and Policy.

[FR Doc. 2020-05827 Filed 3-19-20; 8:45 am]

BILLING CODE 6560-50-P